DEPARTMENT OF COMMERCE

Foreign-Trade Zones Board

[B-62-2016]

Foreign-Trade Zone (FTZ) 20—Newport News, Virginia, Notification of Proposed Production Activity, Canon Virginia, Inc., Subzone 20D (Toner Cartridges), Newport News, Virginia

Canon Virginia, Inc. (Canon), operator of Subzone 20D, submitted a notification of proposed production activity to the FTZ Board for its facility within Subzone 20D, in Newport News, Virginia. The notification conforming to the requirements of the regulations of the FTZ Board (15 CFR 400.22) was received on September 2, 2016.

Canon already has authority to produce a range of printers, copiers and their parts and supplies, including toner, toner cartridges, toner bottles and cartridge parts, within Subzone 20D. The current request would add foreign status materials/components to the scope of authority. Pursuant to 15 CFR 400.14(b), additional FTZ authority would be limited to the specific foreign-status materials/components described in the submitted notification (as described below) and subsequently authorized by the FTZ Board.

Production under FTZ procedures could exempt Canon from customs duty payments on the foreign-status materials/components used in export production. On its domestic sales, Canon would be able to choose the duty rate during customs entry procedures that applies to toner cartridges (duty free) for the foreign-status materials/components noted below and in the existing scope of authority. Customs duties also could possibly be deferred or reduced on foreign-status production equipment.

The materials/components sourced from abroad include: Paints and varnishes; plastic sheets/bottles/cases/crates; paper labels; iron or steel screws; and, alloyed aluminum tubes (duty rates range from free to 8.6%).

Public comment is invited from interested parties. Submissions shall be addressed to the FTZ Board's Executive Secretary at the address below. The closing period for their receipt is October 31, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: September 15, 2016.
Andrew McGilvray,
Executive Secretary.

[FR Doc. 2016-22767 Filed 9-20-16; 8:45 am]

BILLING CODE 3510-DS-P